DEPARTMENT OF TRANSPORTATION

Federal Aviation Administration

[Docket No. FAA-2022-0037]

Agency Information Collection Activity: Request for Comments: Bipartisan Infrastructure Law Airport Terminal and Tower Project Information

AGENCY: Federal Aviation Administration (FAA), DOT.

ACTION: Notice of request for public comment.

SUMMARY: In accordance with the Paperwork Reduction Act (PRA) of 1995, FAA invites public comments on a new information collection form. This collection involves soliciting project information for the Bipartisan Infrastructure Law (BIL) Airport Terminal and Tower Programs. FAA is collecting this information to determine projects to be awarded BIL competitive discretionary grants. The Office of Management and Budget (OMB) has granted a 180-day emergency approval for this collection. FAA plans to follow this emergency approval with a submission for a 3-year approval through OMB's normal PRA clearance process and will incorporate any comments received as a result of this Notice.

DATES: Written comments should be submitted by April 7, 2022.

ADDRESSES: Written comments and recommendations for this information collection should be sent within 30 days of publication of this notice to www.reginfo.gov/public/do/PRAMain. Find this particular information collection by selecting “Currently under 30-day Review—Open for Public Comments” or by using the search function.

FOR FURTHER INFORMATION CONTACT: Robin K. Hunt, Manager, BIL Implementation Team by email at 9-ARP-BILAirports@faa.gov or phone at (202) 267-3831.

SUPPLEMENTARY INFORMATION: Public Comment Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information.

OMB Control Number: 2120-0806.

Title: Bipartisan Infrastructure Law Airport Terminal and Tower Project Information.

Form Numbers: FAA Form 5100-144.

Type of Review: Emergency approval of an information collection.

Background: The FAA is developing this collection to solicit the information necessary to evaluate and select airport terminal and tower projects for funding under the Bipartisan Infrastructure Law (BIL), signed on November 15, 2021. The BIL provides about $1,020,000,000 annually, for five years, to award competitive discretionary grants for airport terminal and tower development. Of this amount, about $1,000,000,000 annually, for five years, is for the Airport Terminal Program, and $20,000,000 annually, for five years, is for an Airport Tower Program (referred to collectively as “Airport Terminal and Towers Programs”). Congress, through the BIL, instructed the FAA to fund these projects expeditiously in order to address the nation's aging airport infrastructure. The information collected is based on grant considerations and priorities outlined in the BIL. Project consideration areas include increasing terminal capacity and passenger access, replacing aging infrastructure, achieving compliance with the Americans with Disabilities Act (42 U.S.C. 12101, et seq.) and expanding accessibility for persons with disabilities, improving airport access for historically disadvantaged populations, improving energy efficiency, including upgrading environmental systems, upgrading plant facilities, and achieving Leadership in Energy and Environmental Design (LEED) accreditation standards, improving airfield safety through terminal relocation, encouraging actual and potential competition, and creating good paying jobs. The information FAA is collecting will include general airport information, a project overview, and narratives on project consideration areas as outlined in the BIL. Airport owners and managers who want to pursue funding and obtain benefits from the BIL Airport Terminal and Tower Programs will submit information via FAA Form 5100-144 to compete for grants. Approximately 3,075 airports are eligible to compete for this funding, but FAA expects only a small subset of eligible airports to submit project information through this competitive discretionary grant process.

Use: The FAA will use submitted information to evaluate and select projects for funding that most closely align with grant considerations and priorities provided in the BIL. These include the areas noted above.

Respondents: An estimated 510 airports are expected to apply for these competitive grants.

Frequency: Information will be collected once within 180 days of OMB approval.

Estimated Total Annual Burden: 6 hours per respondent.

Issued in Washington, DC.
Robin K. Hunt,
Manager, BIL Implementation Team.

[FR Doc. 2022-04855 Filed 3-7-22; 8:45 am]

BILLING CODE 4910-13-P